DEPARTMENT OF DEFENSE

Department of the Army

Change to the Military Freight Carrier Registration Program (FCRP)

AGENCY: Department of the Army, DoD.

SUMMARY: The Military Surface Deployment and Distribution Command (SDDC) is providing notice that it will, effective immediately, no longer accept domestic motor transportation service provider (TSP) registrations until further notice. This will affect domestic motor TSPs only (common, contract, logistics, freight forwarders, and brokers). This does not apply to registration of air, rail, ocean, pipeline, barge, international, and household goods TSPs. This update will be included in the next release of the Military Freight Traffic Unified Rules Publication (MFTURP) No. 1. At such time as it is deemed necessary to accept new registrations, it will be posted on the www.sddc.army.mil public Web site under Strategic Business.

ADDRESSES: Submit comments to Military Surface Deployment and Distribution Command, ATTN: AMSSD-SBC-S, 1 Soldier Way, Scott AFB, IL 62225-5006. Request for additional information may be sent by email to: usarmy.scott.sddc.mbx.carrier-registrations@mail.mil.

FOR FURTHER INFORMATION CONTACT: Carrier Registration Team, (618) 220-6470.

SUPPLEMENTARY INFORMATION: References: SDDC Docketing System, Docket Misc., 1015.

Background: SDDC is currently experiencing reorganization and reassessing programs and procedures.

Miscellaneous: The SDDC Docketing System can be accessed at http://docketing.sddc.army.mil.

Melvin A. Holland III,
Director, Strategic Requirements.

[FR Doc. 2014-15318 Filed 6-27-14; 8:45 am]

BILLING CODE 3710-08-P